DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before August 1, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-027-C.

Petitioner: Chestnut Coal Company, RD 3, Box 142B, Sunbury, Pennsylvania 17801.

Mine: No. 12 Slope Mine, (MSHA I.D. No. 36-09493), located in Northumberland County, Pennsylvania.

Regulation Affected: 30 CFR 49.2(b) (Availability of mine rescue teams).

Modification Request: The petitioner requests a modification of the existing standard to permit the use of two mine rescue teams of three members with one alternate for either team instead of two teams of five members and one alternate for each team. The petitioner states that: (1) The underground anthracite mine is small and cannot accommodate more than three or four miners in the working places; (2) to use five or more rescue team members in the confined working places of the mine would result in a diminution of safety to the miners and the members of the mine rescue team; (3) the risk of disaster is considerably reduced because the electric power does not reach beyond the bottom of the slope and coal is hauled by hand trammed cars or battery electric motor; (4) rescue and recovery operations at other mines have utilized only one team; and (5) the Pennsylvania Deep Mine Safety and other surrounding mines will provide assistance in an emergency. The petitioner asserts that the proposed alternative method will in no way provide less than the same measure of protection afforded the miners under the existing standard.

Docket Number: M-2007-028-C.

Petitioner: Chestnut Coal Company, RD 3, Box 142B, Sunbury, Pennsylvania 17801.

Mine: No. 12 Slope Mine, (MSHA I.D. No. 36-09493), located in Northumberland County, Pennsylvania.

Regulation Affected: 30 CFR 49.6(a)(1) & (5) (Equipment and maintenance requirements).

Modification Request: The petitioner requests a modification of the existing standard to permit the use of eight self-contained breathing apparatus and eight permissible cap lamps and charging rack instead of using twelve self-contained oxygen breathing apparatus and twelve permissible cap lamps and charging rack at each mine rescue station for its seven member rescue team. The petitioner asserts that the proposed alternative method would not alter, change, or reduce the ability, effectiveness or safety of the underground mine personnel.

Docket Number: M-2007-029-C.

Petitioner: Chestnut Coal Company, RD 3, Box 142B, Sunbury, Pennsylvania 17801.

Mine: No. 12 Slope Mine, (MSHA I.D. No. 36-09493), located in Northumberland County, Pennsylvania.

Regulation Affected: 30 CFR 75.335 (Construction of seals).

Modification Request: The petitioner requests a modification of the existing standard to permit an alternative method of construction of seals. The petitioner proposes to use wooden material of moderate size and weight due to the difficulty in accessing previously driven headings and breasts containing the inaccessible abandoned workings, through the use of homemade ladders. The petitioner states that to transport concrete blocks or equivalent materials manually on ladders on pitching veins will expose miners to greater hazards of falling, being struck by falling materials, or resulting in strains or sprains because of the weight of the materials. The petitioner cites low-level explosibility of anthracite coal dust and minimal potential for either an accumulation of methane in previously mined pitching veins or an ignition source in the gob area, as justification for the proposed 10 psi design. The petitioner states that the mine has not experienced measurable liberations of methane to date. The petitioner asserts that the proposed alternative method would provide at least the same measure of protection as the existing standard.

Docket Number: M-2007-030-C.

Petitioner: Chestnut Coal Company, RD 3, Box 142B, Sunbury, Pennsylvania 17801.

Mine: No. 12 Slope Mine, (MSHA I.D. No. 36-09493), located in Northumberland County, Pennsylvania.

Regulation Affected: 30 CFR 75.360 (Preshift examination at fixed intervals).

Modification Request: The petitioner proposes to: (1) Conduct an examination and evaluation from the slope gunboat during the pre-shift examination after an air quantity reading is taken just in by the intake portal, including a visual examination of each seal for physical damage; (2) take an additional air reading and gas test for methane and oxygen deficiency at the intake air split location(s) just off the slope in the gangway portion of the working section; and (3) have the examiner place the date, time and his/her initials at locations where air readings and gas tests are taken prior to anyone entering the mine and properly record the results. The petitioner states that: (1) The slope will be traveled and physically examined in its entire length on a monthly basis regardless of conditions found at the section evaluation point; (2) the dates, times, and examiner's initials will be placed at sufficient locations throughout, and results of the examination will be recorded on the surface; and (3) any hazards detected will be corrected prior to transporting personnel in the slope. The petitioner asserts that the proposed alternative method would provide at least the same measure of protection as the existing standard.

Docket Number: M-2007-031-C.

Petitioner: Chestnut Coal Company, RD 3, Box 142B, Sunbury, Pennsylvania 17801.

Mine: No. 12 Slope Mine, (MSHA I.D. No. 36-09493), located in Northumberland County, Pennsylvania.

Regulation Affected: 30 CFR 75.1100-2(a)(2) (Quantity and location of firefighting equipment).

Modification Request: The petitioner requests a modification of the existing standard 30 CFR 75.1100-2(a)(2), which requires that each working section of underground coal mines producing less than 300 tons of coal per shift be provided with specified firefighting equipment and supplies. The petitioner proposes to use portable fire extinguishers only, to replace existing requirements where rock dust, water cars, and other water storage equipped with three 10 quart pails are not practical. The petitioner states that equipping its small anthracite mine with two portable fire extinguishers near the slope bottom and an additional portable fire extinguisher within 500 feet of the working face will provide equivalent fire protection. The petitioner asserts that the proposed alternative method would provide at least the same measure of protection as the existing standard.

Docket Number: M-2007-032-C.

Petitioner: Chestnut Coal Company, RD 3, Box 142B, Sunbury, Pennsylvania 17801.

Mine: No. 12 Slope Mine, (MSHA I.D. No. 36-09493), located in Northumberland County, Pennsylvania.

Regulation Affected: 30 CFR 75.1200(d) & (i) (Mine map).

Modification Request: The petitioner requests a modification of the existing standard which requires, in part, an accurate and up-to-date mine map with contour lines of all elevations and mines above or below. The petitioner proposes to use cross-sections instead of contour lines through the intake slope at locations of rock tunnel connections between veins, and at 1,000 foot intervals of advance from the intake slope. In addition, the petitioner proposes to limit the required mapping of the mine workings above and below to those present within 100 feet of the vein being mined, except when veins are interconnected to other veins beyond the 100-foot limit through rock tunnels. The petitioner states that contours provide no useful information due to the steep pitch encountered in mining anthracite coal veins, and their presence would make portions of the map illegible. The petitioner further states that use of cross-sections in lieu of contour lines has been practiced since the late 1800's and provides critical information about the spacing between veins and the proximity to other mine workings, which fluctuate considerably. Additionally, the petitioner states that the mine workings above and below are usually inactive and abandoned, therefore, are not subject to changes during the life of the mine. The petitioner states that all mapping for mines above and below are researched by its contract engineer for the presence of interconnecting rock tunnels between veins in relation to the mine and a hazard analysis is done when mapping indicates the presence of known potentially flooded workings. Petitioner asserts that when evidence indicates that prior mining was conducted on a vein above or below and research exhausts the availability of mine mapping, the vein will be considered to be mined and flooded and appropriate precautions will be taken under 30 CFR 75.388, when possible. Where potential hazards exist and mine drilling capabilities limit penetration, petitioner will drill surface boreholes to intercept the mine workings and will analyze the results prior to mining in the affected area. The petitioner asserts that the proposed alternative method would provide at least the same measure of protection as the existing standard.

Docket Number: M-2007-033-C.

Petitioner: Chestnut Coal Company, RD 3, Box 142B, Sunbury, Pennsylvania 17801.

Mine: No. 12 Slope Mine, (MSHA I.D. No. 36-09493), located in Northumberland County, Pennsylvania.

Regulation Affected: 30 CFR 75.1202 and 75.1202-1(a) (Temporary notations, revisions, and supplements).

Modification Request: The petitioner requests a modification of the existing standards to permit the required interval of survey to be established annually from the initial survey in lieu every 6 months. The petitioner proposes to update the mine map by hand notations on a daily basis, conduct subsequent surveys prior to commencing retreat mining, and when either a drilling program under 30 CFR 75.388 or plan for mining into accessible areas under 30 CFR 75.389 is required. The petitioner states that: (1) Low production and slow rate of advance in anthracite mining make surveying on 6 month intervals impractical and, in most cases, annual development is frequently limited to less than 500 feet of gangway advance with associated up-pitch development; (2) the majority of small anthracite mines are using non-mechanized, hand-loading mining methods; (3) development above the active gangway is designed to mine into the level above at designated intervals thereby maintaining sufficient control between both surveyed gangways; and (4) the available engineering/surveyor resources are very limited in anthracite coal fields which makes surveying on an annual basis difficult to achieve with 4 individual contractors currently available. The petitioner asserts that the proposed alternative method would provide at least the same measure of protection as the existing standards.

Docket Number: M-2007-034-C.

Petitioner: Chestnut Coal Company, RD 3, Box 142B, Sunbury, Pennsylvania 17801.

Mine: No. 12 Slope Mine, (MSHA I.D. No. 36-09493), located in Northumberland County, Pennsylvania.

Regulation Affected: 30 CFR 75.1400 (Hoisting equipment; general).

Modification Request: The petitioner proposes to use the slope (gunboat) to transport persons in shafts and slopes using an increased rope strength/safety factor and secondary safety rope connection instead of using safety catches or other no less effective devices. The petitioner states that no such catch or device is available for the conditions present. The petitioner asserts that the proposed alternative method would provide at least the same measure of protection as the existing standard.

Docket Number: M-2007-035-C.

Petitioner: Black Beauty Coal Company, Vermilion Grove Road, 4500 N. 1500 E. Road, Ridgefarm, Illinois 61870.

Mine: Riola Mine Complex—Vermilion Grover Plant, MSHA I.D. No. 11-03060, located in Vermilion County, Illinois.

Regulation Affected: 30 CFR 75.1909(b)(6) (Non-permissible diesel-powered equipment; design and performance requirements).

Modification Request: The petitioner requests a modification of the existing standard to permit the use of the Getman Roadbuilder, Model RDG-1504S, serial number 6940, without front brakes as it was originally designed. The existing standard requires that service brakes on self-propelled non-permissible diesel-powered equipment act on each wheel and are designed such that a failure on one component will not result in a complete loss of braking capability. The petitioner states that: (1) The Roadbuilder has six wheels with dual brake systems on the four rear wheels, and is designed to prevent loss of braking due to a single component failure; (2) seventy-four percent of the machines total weight is over the four rear wheels; (3) brakes on the rear of the Roadbuilder are sufficient to safely stop the machine; (4) training will be provided for grader operators to lower the moldboard for additional stopping capability in emergency situations; (5) operators will be trained to recognize the appropriate speeds to use on different roadway conditions; and (6) operators will be trained to limit the maximum speed to ten miles per hour. The petitioner asserts that the proposed alternative method would provide at least the same measure of protection as the existing standard.

Docket Number: M-2007-036-C.

Petitioner: KMMC, LLC, (dba) Vision Mining, P.O. Box 99, Sebree, Kentucky 42455.

Mine: Vision No. 9 Mine, (MSHA I.D. No. 15-17044), located in Webster County, Kentucky.

Regulation Affected: 30 CFR 75.1101-1(b) (Deluge water spray systems).

Modification Request: The petitioner requests a modification of the existing standard to permit the use of deluge-type water spray systems installed at belt conveyor drives in lieu of using blow off dust covers. The petitioner proposes to have a person who is trained in the testing procedure specific to the deluge-type water spray fire suppression systems conduct examinations and tests on a weekly basis as follows: (1) Conduct a visual examination of each deluge-type water spray fire suppression system; (2) conduct a functional test of each deluge-type water spray fire suppression system and observe its performance; and (3) record the results of the examination and test in a book maintained on the surface which would be retained and made available to the authorized representative of the Secretary. The petitioner states that if any malfunction or clogged nozzle is detected as a result of the weekly examination or functional test, corrections will be made immediately. The petitioner asserts that the proposed alternative method will at all times guarantee no less than the same measure of protection to all miners as would be provided by the mandatory safety standard.

Dated: June 25, 2007.
Jack Powasnik,
Acting Director, Office of Standards, Regulations, and Variances.

[FR Doc. E7-12755 Filed 6-29-07; 8:45 am]

BILLING CODE 4510-43-P